SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: January 1-31, 2023.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists GF Registration for projects, described below, pursuant to 18 CFR part 806, subpart E, for the time period specified above:

1. Halifax Area Water and Sewer Authority—Public Water Supply System, GF Certificate No. GF-202301239, Halifax Township, Dauphin County, Pa.; Wells 1, 2, and 3; Issue Date: January 13, 2023.

2. Lewistown Country Club, GF Certificate No. GF-202301240, Granville Township, Mifflin County, Pa.; Pond 8; Issue Date: January 13, 2023.

3. RADD Golf LLC—RADD Golf LLC dba Four Seasons Golf Club, GF Certificate No. GF-202301241, Exeter Borough, Luzerne County, Pa.; Slocum Avenue Well; Issue Date: January 31, 2023.

Authority: Public Law 91-575, 84 Stat. 1509 et seq., 18 CFR parts 806 and 808.

Dated: February 6, 2023.
Jason E. Oyler,
General Counsel and Secretary to the Commission.

[FR Doc. 2023-02793 Filed 2-8-23; 8:45 am]

BILLING CODE 7040-01-P